LEGAL SERVICES CORPORATION

Notice of Funding Availability for Disaster Relief Emergency Grant Funds; Request for Applications

AGENCY: Legal Services Corporation.

ACTION: Notice.

SUMMARY: The Legal Services Corporation (LSC) is the national organization charged with administering federal funds provided for civil legal services to low-income Americans.

This Request for Applications (RFA) announces the availability of LSC's disaster relief emergency grant funds and solicits grant applications from current LSC recipients located in a federally-declared disaster area seeking financial assistance to mitigate damage sustained and who have experienced a surge in demand for legal services as the result of a federally-declared disaster.

DATES: The RFA will be made available beginning on November 19, 2013. RFAs will be accepted on a rolling basis.

ADDRESSES: Office of Program Performance, Legal Services Corporation, 3333 K Street NW., Third Floor, Washington, DC 20007-3522.

FOR FURTHER INFORMATION CONTACT: John Eidleman, Office of Program Performance, by email at disasteremergency@lsc.gov, by phone at (202) 295-1500, or visit the LSC grants Web site at www.grants.lsc.gov.

SUPPLEMENTARY INFORMATION: On occasion, LSC makes available special funding to help meet the emergency needs of programs in disaster areas. See http://grants.lsc.gov/apply-for-funding/other-types-funding/disaster-grants. When funding is available, only current LSC recipients in federally-declared disaster areas, as identified by the Federal Emergency Management Agency (FEMA), are eligible to apply for such emergency funds. Information on federally-declared disaster areas is available at http://www.fema.gov/disasters.

The application guidelines are available at www.grants.lsc.gov.

Dated: November 19, 2013.
Atitaya C. Rok,
Staff Attorney.

[FR Doc. 2013-28068 Filed 11-21-13; 8:45 am]

BILLING CODE 7050-01-P